ENVIRONMENTAL PROTECTION AGENCY

[FRL-9677-5]

Proposed CERCLA Agreement for Recovery of Past Response Costs; Piqua Hospital Site

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement for recovery of past response costs concerning the Piqua Hospital Site (Site ID Number B5RB) in Piqua, Ohio with the following settling parties: Hospdela LLC and Dr. Enrique De La Piedra. The settlement requires the settling parties to pay $20,000 to the Hazardous Substance Superfund. The settlement includes a covenant not to sue the settling parties pursuant to Sections 106 and 107(a) of CERCLA, 42 U.S.C. 9606 and 9607(a). For 30 days following the date of publication of this notice, the Agency will receive written comments relating to the settlement. The Agency will consider all comments received and may modify or withdraw its consent to the settlement if comments received disclose facts or considerations which indicate that the settlement is inappropriate, improper or inadequate. The Agency's response to any comments received will be available for public inspection at 77 West Jackson Boulevard, 7th floor Superfund File Room, Chicago, Illinois.

DATES: Comments must be submitted on or before June 25, 2012.

ADDRESSES: The proposed settlement is available for public inspection at 77 West Jackson Boulevard, 7th floor Superfund File Room, Chicago, Illinois. A copy of the proposed settlement may be obtained from Deborah Carlson, Associate Regional Counsel, C-14J, 77 West Jackson Boulevard, Chicago, Illinois 60604, telephone: 312-353-6121. Comments should reference the Piqua Hospital Site in Piqua, Ohio and EPA Docket No. V-W-09-C-922 and should be addressed to Deborah Carlson, Associate Regional Counsel, C-14J, 77 West Jackson Boulevard, Chicago, Illinois 60604.

FOR FURTHER INFORMATION CONTACT: Deborah Carlson, Associate Regional Counsel, C-14J, 77 West Jackson Boulevard, Chicago, Illinois 60604, telephone 312-353-6121

Authority: The Comprehensive Environmental Response, Compensation, and Liability Act of 1980, as amended, 42 U.S.C. 9601, et seq.

Dated: May 11, 2012.
Richard C. Karl,
Director, Superfund Division, Region 5, United States Environmental Protection Agency.

[FR Doc. 2012-12627 Filed 5-23-12; 8:45 am]

BILLING CODE P